DEPARTMENT OF ENERGY

Federal Energy Regulatory Commission

[Docket No. EL08-48-000]

Braintree Electric Light Department, Hingham Municipal Lighting Plant, Hull Municipal Lighting Plan, Mansfield Municipal Electric Department, Middleborough Gas & Electric Department, Taunton Municipal Light Plant v. ISO New England Inc.; Notice of Complaint

April 1, 2008.

Take notice that on March 28, 2008, Braintree Electric Light Department, Hingham Municipal Lighting Plant, Hull Municipal Lighting Plant, Mansfield Municipal Electric Department, Middleborough Gas & Electric Department, and Taunton Municipal Light Plant (Complainants) filed a formal complaint against ISO New England Inc. (Respondent), alleging that the Respondent violated its tariff by assessing certain out-of-merit generation costs as Local Second Contingency Protection Resource charges to be allocated among all load in Southeast Massachusetts, pursuant to section 206 of the Commission's Rules of Practice and Procedure, 18 CFR 385.206 and section 205 and 306 of the Federal Power Act, 16 U.S.C. 824(e) and 825(e).

The Complainants have requested fast track processing of their complaint.

The Complainants also disagree with the Critical Energy Infrastructure Information (CEII) designation of the complaint and accompanying testimony which includes information designated by the Respondent as CEII and request that the Commission remove the CEII designation and release the unredacted copy of the complaint to make it publicly available.

The Complainants state that a copy of the complaint has been served on the Respondent and on all persons on the Commission's official service list under Docket No. ER07-921-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll-free). For TTY, call (202) 502-8659.

Comment Date: 5 p.m. Eastern Time on April 28, 2008.

Kimberly D. Bose,
Secretary.

[FR Doc. E8-7284 Filed 4-7-08; 8:45 am]

BILLING CODE 6717-01-P